DEPARTMENT OF TRANSPORTATION

Office of the Secretary

[Docket Number: OST-95-179 and OST-95-623; [OMB Control #: 2105-0537]

Agency Information Collection; Request for Comments; Clearance and Renewal of a Previously Approved Collection; Disclosure of Codesharing Arrangements and Long-Term Wet Leases

AGENCY: Office of the Secretary (OST).

ACTION: Notice and request for comments.

SUMMARY: In compliance with the Paperwork Reduction Act of 1995, Public Law 104-13 (44 U.S.C. 3501 et seq.) this notice announces that the Information Collection Request, abstracted below, is being forwarded to the Office of Management and Budget for renewal and comment. The ICR describes the nature of the information collection and its expected cost burden. The Federal Register Notice with a 60-day comment period soliciting comments on the following collection of information was published on July 11, 2008 [FR Vol. 73, pages 40008—40010]. No comments were received.

DATES: Written comments on this notice should be received on or before October 27, 2008 and submitted to the attention of the DOT/OST Desk Officer, Office of Information and Regulatory Affairs, Office of Management and Budget, Docket Library, Room 10102, 725 17th Street, NW., Washington, DC 20503 with the associated OMB Approval Number 2105-0537 and Dockets OST-95-179 and OST-95-623.

FOR FURTHER INFORMATION CONTACT: Aleta Best, Office of the Assistant Secretary for Aviation and International Affairs, Office of the Secretary, U.S. Department of Transportation, 1200 New Jersey Avenue, SE., Washington, DC 20590, (202) 493-0797.

SUPPLEMENTARY INFORMATION: Title: Disclosure of Codesharing Arrangements and Long-Term Wet Leases.

OMB Control Number: 2105-0537.

Expiration Date: November 30, 2008.

Type of Review: Renewal and Approval of a previously approved collection.

Respondents: All U.S. air carriers, foreign air carriers, computer reservations systems (CRSs), and travel agents doing business in the United States, and the traveling public.

Number of Respondents: 16,000, excluding travelers.

Number of Responses: 317,000,000.

Total Annual Burden: 1,306,366 hours.

Abstract: U.S. airlines, foreign airlines, and travel agents will provide oral, written and Internet notification to air travelers containing pertinent information about codesharing and long-term wet leases at the time the consumer is considering the purchase of air transportation and for use during the traveler's journey. This information is intended to aid the prospective consumer in making a more informed choice regarding the purchase of air transportation, and to facilitate travel by reducing the possibility that the traveler will be misled or confused before and during his or her trip. Since the purpose of this regulation is to ensure that consumers have complete information about the air transportation they are considering for purchase, there are no issues of confidentiality involved.

Comments are invited on: (a) Whether the proposed collection of information is necessary for the proper performance of the functions of the Department, including whether the information will have a practical utility; (b) the accuracy of the Department's estimate of burden of the proposed information collection; (c) ways to enhance the quality, utility, and clarity of the information collection; (d) ways to minimize the burden of the collection of information on respondents, by the use of electronic means, including the use of automated collection techniques or other forms of information technology.

All responses to this notice will be summarized and included in the request for OMB approval. All comments will also become a matter of public record.

Issued in Washington, DC on September 18, 2008.
Todd M. Homan,
Director, Office of Aviation Analysis.

[FR Doc. E8-22635 Filed 9-24-08; 8:45 am]

BILLING CODE 4910-9X-P